DEPARTMENT OF TRANSPORTATION

Federal Aviation Administration

14 CFR Part 39

[Docket No. FAA-2009-0034; Directorate Identifier 2007-NM-082-AD; Amendment 39-15797; AD 2009-02-07]

RIN 2120-AA64

Airworthiness Directives; BAE Systems (Operations) Limited (Jetstream) Model 4101 Airplanes

AGENCY: Federal Aviation Administration (FAA), Department of Transportation (DOT).

ACTION: Final rule; request for comments.

SUMMARY: The FAA is superseding an existing airworthiness directive (AD) that applies to certain British Aerospace (Jetstream) Model 4100 series airplanes. The existing AD currently requires an eddy current conductivity test to measure the conductivity of the upper splice plate of the wing, and related investigative and corrective actions if necessary. This AD revises the applicability to include additional airplanes. This AD results from reports of exfoliation corrosion of the upper splice plate of the wing. We are issuing this AD to detect and correct such corrosion, which could result in reduced structural integrity of the airplane.

DATES: This AD becomes effective March 13, 2009.

The Director of the Federal Register approved the incorporation by reference of certain publications as of March 13, 2009.

On September 23, 1998 (63 FR 44371, August 19, 1998), the Director of the Federal Register approved the incorporation by reference of certain other publications.

We must receive comments on this AD by March 30, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact BAE Systems Regional Aircraft, 13850 Mclearen Road, Herndon, Virginia 20171; telephone 703-736-1080; e-mail raebusiness@baesystems.com; Internet http://www.baesystems.com/Businesses/RegionalAircraft/index.htm.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Discussion

On August 11, 1998, the FAA issued AD 98-17-12, amendment 39-10714 (63 FR 44371, August 19, 1998). That AD applies to certain British Aerospace (Jetstream) Model 4100 series airplanes. That AD requires an eddy current conductivity test to measure the conductivity of the upper splice plate of the wing, and follow-on actions if necessary. That AD resulted from issuance of mandatory continuing airworthiness information from another civil airworthiness authority (British airworthiness directive 005-03-97). The actions specified in AD 98-17-12 are intended to detect and correct corrosion of the upper splice plate of the wing, which could result in reduced structural integrity of the airplane.

Actions Since AD Was Issued

Since we issued AD 98-17-12, the European Aviation Safety Agency (EASA), which is the Technical Agent for the Member States of the European Community, issued Airworthiness Directive 2007-0056, dated March 1, 2007. The EASA Airworthiness Directive superseded British airworthiness directive 005-03-97 by adding airplanes with construction numbers 41102 through 41104. The EASA advises that those airplanes might also be subject to the identified unsafe condition.

Relevant Service Information

AD 98-17-12 requires accomplishment of British Aerospace Regional Aircraft Service Bulletins J41-57-019, Revision 1, dated November 26, 1997; J41-57-020, dated March 20, 1997; and J41-57-021, dated May 7, 1998. BAE Systems (Operations) Limited has issued Revision 1 of Service Bulletin J41-57-020, dated July 3, 2006; and Revision 4 of Service Bulletin J41-57-021, dated January 16, 2003. BAE Systems (Operations) Limited Service Bulletin J41-57-020, Revision 1, adds the three airplanes referenced above. The revised service bulletins specify no new actions for any affected airplanes.

The EASA mandated the service information and issued airworthiness directive 2007-0056, dated March 1, 2007 (referred to after this as “the MCAI”), to ensure the continued airworthiness of these airplanes in the European Union.

FAA's Determination and Requirements of This AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Therefore, we are issuing this AD to detect and correct such corrosion, which could result in reduced structural integrity of the airplane. This new AD retains the requirements of the existing AD, and revises the applicability to include additional airplanes.

Explanation of Additional Change to Applicability

We have further revised the applicability of the existing AD to identify model designations as published in the most recent type certificate data sheet for the affected models.

Clarification of Applicability

BAE Systems (Operations) Limited Service Bulletin J41-57-019, Revision 1, dated November 26, 1997; BAE Systems (Operations) Limited Service Bulletin J41-57-020, Revision 1, dated July 3, 2006; and BAE Systems (Operations) Limited Service Bulletin J41-57-021, Revision 4, dated January 16, 2003; identify effectivity by “constructor” numbers, and the MCAI identifies its applicability by “construction” numbers. Since these terms are interchangeable, in this AD we refer to the applicability by “constructor” numbers.

Costs of Compliance

The following table provides the estimated costs to comply with this AD.

Estimated Costs for AD 98-17-12
Action | Work hours | Average labor rate per hour | Cost per airplane | U.S.-registered airplanes | Fleet cost
Test | 1 | $80 | $80 | 7 | $560

The airplanes added to the applicability in this AD are not on the U.S. Register; therefore, they are not directly affected by this AD action. No additional costs are imposed on U.S. operators. However, we consider it necessary to supersede this AD to add these airplanes to ensure that the unsafe condition is addressed if a newly added airplane is imported and placed on the U.S. Register in the future. For those airplanes, the costs listed in the table above would apply.

FAA's Determination of the Effective Date

No airplane affected by the new requirements of this AD is currently on the U.S. Register. Therefore, providing notice and opportunity for public comment is unnecessary before this AD is issued, and this AD may be made effective in less than 30 days after it is published in the Federal Register.

Comments Invited

This AD is a final rule that involves requirements affecting flight safety, and we did not provide you with notice and an opportunity to provide your comments before it becomes effective. However, we invite you to send any written data, views, or arguments about this AD. Send your comments to an address listed under the ADDRESSES section. Include “Docket No. FAA-2009-0034; Directorate Identifier 2007-NM-082-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-10714 (63 FR 44371, August 19, 1998) and adding the following new AD:

2009-02-07 BAE Systems (Operations) Limited (Formerly British Aerospace Regional Aircraft): Amendment 39-15797. Docket No. FAA-2009-0034; Directorate Identifier 2007-NM-082-AD.

Effective Date

(a) This AD becomes effective March 13, 2009.

Affected ADs

(b) This AD supersedes AD 98-17-12.

Applicability

(c) This AD applies to BAE Systems (Operations) Limited Model Jetstream 4101 airplanes, certificated in any category; constructor's numbers 41004 through 41096 inclusive and 41102 through 41104 inclusive.

Subject

(d) Air Transport Association (ATA) of America Code 57: Wings.

Unsafe Condition

(e) This AD results from reports of exfoliation corrosion of the upper splice plate of the wing. We are issuing this AD to detect and correct such corrosion, which could result in reduced structural integrity of the airplane.

Compliance

(f) You are responsible for having the actions required by this AD performed within the compliance times specified, unless the actions have already been done.

Restatement of Requirements of AD 98-17-12

Eddy Current Conductivity Test

(g) For airplanes with constructor's numbers 41004 through 41096 inclusive: Within 6 months after September 23, 1998 (the effective date of AD 98-17-12), perform an eddy current conductivity test to measure the conductivity of the upper splice plate of the wing, in accordance with British Aerospace Regional Aircraft Service Bulletin J41-57-019, Revision 1, dated November 26, 1997. If the conductivity measurement is greater than or equal to 35.0% of the International Aluminum and Copper Standards (IACS), no further action is required by this AD.

(h) During the inspection required by paragraph (g) of this AD, if the conductivity measurement is less than 35.0% of the IACS: Prior to further flight, use a borescope to perform a detailed visual inspection to detect corrosion along the full length of the upper splice plate of the wing, in accordance with British Aerospace Regional Aircraft Service Bulletin J41-57-020, dated March 20, 1997; or BAE Systems (Operations) Limited Service Bulletin J41-57-020, Revision 1, dated July 3, 2006. Thereafter, repeat the inspection at intervals not to exceed 1 year.

(1) During any inspection required by paragraph (g) of this AD, if any corrosion is detected that is within the allowable limits specified in British Aerospace Regional Aircraft Service Bulletin J41-57-020, dated March 20, 1997; or BAE Systems (Operations) Limited Service Bulletin J41-57-020, Revision 1, dated July 3, 2006: Accomplish the actions required by paragraphs (h)(1)(i) and (h)(1)(ii) of this AD, at the times specified in those paragraphs.

(i) Prior to further flight, repair the upper splice plate of the wing in accordance with Appendix 2 of British Aerospace Regional Aircraft Service Bulletin J41-57-020, dated March 20, 1997; or BAE Systems (Operations) Limited Service Bulletin J41-57-020, Revision 1, dated July 3, 2006. And

(ii) Within 3 years after the detection of corrosion, replace the upper splice plate of the wing with a new upper splice plate in accordance with the applicable service bulletin identified in Table 1 of this AD. Such replacement constitutes terminating action for the requirements of this AD.

Table 1—Service Bulletins
Service bulletin | Revision level | Date
British Aerospace Regional Aircraft Service Bulletin J41-57-020 | Original | March 20, 1997.
BAE Systems (Operations) Limited Service Bulletin J41-57-020 | 1 | July 3, 2006.
British Aerospace Regional Aircraft Service Bulletin J41-57-021 | Original | May 7, 1998.
BAE Systems (Operations) Limited Service Bulletin J41-57-021 | 4 | January 16, 2003.

(2) During any inspection required by paragraph (h) of this AD, if any corrosion is detected that is outside the allowable limits specified in British Aerospace Regional Aircraft Service Bulletin J41-57-020, dated March 20, 1997; or BAE Systems (Operations) Limited Service Bulletin J41-57-020, Revision 1, dated July 3, 2006: Prior to further flight, repair in accordance with a method approved by the Manager, International Branch, ANM-116, FAA, Transport Airplane Directorate.

New Requirements of This AD

Replacement According to Previous Issue of Service Bulletin

(i) Replacement of the upper splice plate is also acceptable for compliance with the requirements of paragraph (h)(1)(ii) of this AD, if done before the effective date of this AD in accordance with any service bulletin identified in Table 2 of this AD.

Table 2—Service Bulletins
BAE Systems (operations) limited service bulletin | Revision level | Date
J41-57-021 | 1 | May 26, 2000.
J41-57-021 | 2 | November 2, 2001.
J41-57-021 | 3 | August 9, 2002.

(j) For airplanes with construction numbers 41102 through 41104 inclusive: Do the actions specified in paragraph (g) of this AD within 6 months after the effective date of this AD, in accordance with British Aerospace Regional Aircraft Service Bulletin J41-57-019, Revision 1, dated November 26, 1997. And do all applicable actions at the applicable times as specified in paragraph (h) of this AD.

Alternative Methods of Compliance (AMOCs)

(k) The Manager, International Branch, ANM-116, Transport Airplane Directorate, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your principal maintenance inspector (PMI) or principal avionics inspector (PAI), as appropriate, in the FAA Flight Standards District Office (FSDO), or lacking a principal inspector, your local FSDO. The AMOC approval letter must specifically reference this AD.

Related Information

(l) EASA Airworthiness Directive 2007-0056, dated March 1, 2007, also addresses the subject of this AD.

Material Incorporated by Reference

(m) You must use the applicable service bulletins identified in Table 4 of this AD to perform the actions that are required by this AD, unless the AD specifies otherwise. BAE Systems (Operations) Limited Service Bulletin J41-57-021, Revision 4, dated January 16, 2003, has the following effective pages:

Page No. | Revision level shown on page | Date shown on page
1, 4, 79-83 | 4 | January 16, 2003.
2, 3, 5-78 | 3 | August 9, 2002.

(1) The Director of the Federal Register approved the incorporation by reference of BAE Systems (Operations) Limited Service Bulletin J41-57-020, Revision 1, dated July 3, 2006; and BAE Systems (Operations) Limited Service Bulletin J41-57-021, Revision 4, dated January 16, 2003; in accordance with 5 U.S.C. 552(a) and 1 CFR part 51.

(2) On September 23, 1998 (63 FR 44371, August 19, 1998), the Director of the Federal Register approved the incorporation by reference of British Aerospace Regional Aircraft Service Bulletins identified in Table 3 of this AD.

Table 3—Material Previously Incorporated by Reference
Service bulletin | Revision level | Date
J41-57-019 | 1 | November 26, 1997.
J41-57-020 | Original | March 20, 1997.
J41-57-021 | Original | May 7, 1998.

(3) For service information identified in this AD, contact BAE Systems Regional Aircraft, 13850 Mclearen Road, Herndon, Virginia 20171; telephone 703-736-1080; e-mail raebusiness@baesystems.com; Internet http://www.baesystems.com/Businesses/RegionalAircraft/index.htm.

(4) You may review copies of the service information that is incorporated by reference at the FAA, Transport Airplane Directorate, 1601 Lind Avenue, SW., Renton, Washington. For information on the availability of this material at the FAA, call 425-227-1221 or 425-227-1152.

(5) You may also review copies of the service information at the National Archives and Records Administration (NARA). For information on the availability of this material at NARA, call 202-741-6030, or go to http://www.archives.gov/federal_register/code_of_federal_regulations/ibr_locations.html.

Table 4—All Material Incorporated by Reference
Service bulletin | Revision level | Date
BAE Systems (Operations) Limited Service Bulletin J41-57-020 | 1 | July 3, 2006.
BAE Systems (Operations) Limited Service Bulletin J41-57-021 | 4 | January 16, 2003.
British Aerospace Regional Aircraft Service Bulletin J41-57-019 | 1 | November 26, 1997.
British Aerospace Regional Aircraft Service Bulletin J41-57-020 | Original | March 20, 1997.
British Aerospace Regional Aircraft Service Bulletin J41-57-021 | Original | May 7, 1998.

Issued in Renton, Washington, on January 9, 2009.
Stephen P. Boyd,
Assistant Manager, Transport Airplane Directorate, Aircraft Certification Service.

[FR Doc. E9-3782 Filed 2-25-09; 8:45 am]

BILLING CODE 4910-13-P